FEDERAL COMMUNICATIONS COMMISSION

Notice of Public Information Collection(s) Being Reviewed by the Federal Communications Commission

September 19, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 30, 2000. If you anticipate that you will be submitting comments, but find it difficult to do so within the period of time allowed by this notice, you should advise the contact listed below as soon as possible.

ADDRESSES: Direct all comments to Judy Boley, Federal Communications Commission, Room 1-C804, 445 12th Street, SW, Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0513.

Title: ARMIS Joint Cost Report.

Report No.: FCC Report 43-03.

Type of Review: Extension of a currently approved collection.

Respondents: Business or other for-profit.

Number of Respondents: 150.

Estimated Time Per Response: 83 hours.

Frequency of Response: Annual reporting requirement.

Total Annual Burden: 12,450 hours.

Total Annual Cost: N/A.

Needs and Uses: ARMIS was implemented to facilitate the timely and efficient analysis of revenue requirements, rates of return and price caps; to provide an improved basis for audits and other oversight functions; and to enhance the Commission's ability to quantify the effects of alternative policy. The ARMIS Joint Cost Report, FCC Report 43-03, contains financial and operating data. The FCC Report 43-03 details the incumbent local exchange carriers (“ILECs”) regulated and nonregulated cost and revenue allocations by study area pursuant to Part 64 of the Commission's rules.

The information contained in FCC Report 43-03 provides the necessary details to enable the Commission to fulfill its regulatory responsibilities. Automated reporting of these data greatly enhances the Commission's ability to analyze and process the extensive amounts of data that it needs to administer its rules.

OMB Control No.: 3060-0804.

Title: Universal Service—Health Care Providers Universal Service Program.

Form No.: FCC Forms 465, 466, 466-A, 467, and 468.

Type of Review: Extension of a currently approved collection.

Respondents: Business or other for-profit and not-for-profit institutions.

Number of Respondents: 5,255.

Estimated Time Per Response: 1.8 hours (average).

Frequency of Response: On occasion reporting requirement and recordkeeping requirement.

Total Annual Burden: 9,755 hours.

Total Annual Cost: N/A.

Needs and Uses: The Commission adopted rules providing support for all telecommunications services, Internet access, and internal connections for all eligible health care providers. Health care providers who want to participate in the universal service program must file several forms, including FCC Forms 465, 466, 466-A, 467 and 468. The information is used to determine eligibility for the program.

Federal Communications Commission.
Magalie Roman Salas,
Secretary.

[FR Doc. 00-24963 Filed 9-28-00; 8:45 am]

BILLING CODE 6712-01-U